DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Proposed Project: 2006 National Survey on Drug Use and Health—(OMB No. 0930-0110)—Revision

The National Survey on Drug Use and Health (NSDUH), formerly the National Household Survey on Drug Abuse (NHSDA), is a survey of the civilian, noninstitutionalized population of the United States 12 years old and older. The data are used to determine the prevalence of use of tobacco products, alcohol, illicit substances, and illicit use of prescription drugs. The results are used by SAMHSA, ONDCP, Federal government agencies, and other organizations and researchers to establish policy, direct program activities, and better allocate resources.

For the 2006 NSDUH, additional questions are being planned regarding self-help drug treatment, use of additional hallucinogens, prescription drugs and over the counter medications, respondent's place of residence, and alcohol consumption practices. To maintain the respondent burden at 60 minutes per interview, a few questions will be deleted. The remaining modular components of the questionnaire will remain essentially unchanged except for minor modifications to wording.

As with all NSDUH/NHSDA surveys conducted since 1999, the sample size of the survey for 2006 will be sufficient to permit prevalence estimates for each of the fifty states and the District of Columbia.

The total annual burden estimate is shown below:

Activity | Number of respondents | Number of responses per respondent | Average burden hours per respondent | Total burden hours
Household Screening | 182,250 | 1 | .083 | 15,127
Interview | 67,500 | 1 | 1.0 | 67,500
Re-interview | 3,100 | 1 | 1.0 | 3,100
Screening Verification | 5,494 | 1 | .067 | 368
Interview Verification | 10,125 | 1 | .067 | 678
Re-Interview Verification | 1,550 | 1 | .067 | 104
TOTAL | 182,250 |  |  | 86,877

Written comments and recommendations concerning the proposed information collection should be sent by September 15, 2005 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: August 10, 2005.
Anna Marsh,
Executive Officer, SAMHSA.

[FR Doc. 05-16177 Filed 8-15-05; 8:45 am]

BILLING CODE 4162-20-P